DEPARTMENT OF COMMERCE

National Oceanic and Atmospheric Administration

[RTID 0648-XE300]

New England Fishery Management Council; Public Meeting

AGENCY: National Marine Fisheries Service (NMFS), National Oceanic and Atmospheric Administration (NOAA), Commerce.

ACTION: Notice of a public meeting.

SUMMARY: The New England Fishery Management Council (Council) is holding a hybrid meeting of its Scientific and Statistical Committee (SSC) to consider actions affecting New England fisheries in the exclusive economic zone (EEZ). Recommendations from this group will be brought to the full Council for formal consideration and action, if appropriate.

DATES: This meeting will be held on Wednesday, October 9, 2024, beginning at 9 a.m.

ADDRESSES:

Meeting address: This meeting will be held at the Hilton Providence, 21 Atwells Avenue, Providence, RI 02903; telephone: (401) 831-3900.

Webinar Registration information: https://nefmc-org.zoom.us/webinar/register/WN_PcPsOJlDT3K-IgFdnfJZfA.

Council address: New England Fishery Management Council, 50 Water Street, Mill 2, Newburyport, MA 01950

FOR FURTHER INFORMATION CONTACT: Cate O'Keefe, Ph.D., Executive Director, New England Fishery Management Council; telephone: (978) 465-0492.

SUPPLEMENTARY INFORMATION:

Agenda

The Scientific and Statistical Committee (SSC) will meet to review the information provided by the Council's Scallop Plan Development Team (PDT) and recommend the overfishing limits (OFL) and acceptable biological catches (ABC) for Atlantic sea scallops for fishing years (FY) 2025-2026. They will also review the information provided by the Council's Groundfish PDT, review stock assessment information and recommend the OFLs and ABCs for witch flounder for FY 2025-2027.

The SSC will review draft outcomes of the 8th National Workshop of the Council Coordination Committee's Scientific and Statistical Subcommittee held in August 2024 and discuss potential next steps for the SSC. They also plan to review outcomes of the May 2024 workshop on Implementing Social Science Methods for Fisheries Decision-Making, discuss a proposal for a formal committee on social science; discuss potential next steps for the SSC. Other business will be discussed, as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: September 18, 2024.
Rey Israel Marquez,
Acting Deputy Director, Office of Sustainable Fisheries, National Marine Fisheries Service.

[FR Doc. 2024-21692 Filed 9-20-24; 8:45 am]

BILLING CODE 3510-22-P